DEPARTMENT OF ENERGY

Federal Energy Regulatory Commission

Combined Notice of Filings #2

Take notice that the Commission received the following electric corporate filings:

Docket Numbers: EC18-61-001.

Applicants: Clearway Energy, Inc., Clearway Renew LLC, Carlsbad Energy Center LLC.

Description: Notification of Consummation and Change in Circumstances of Clearway Energy, Inc., et al.

Filed Date: 3/8/19.

Accession Number: 20190308-5122.

Comments Due: 5 p.m. ET 3/29/19.

Take notice that the Commission received the following electric rate filings:

Docket Numbers: ER19-1214-000.

Applicants: Southwestern Electric Power Company.

Description: § 205(d) Rate Filing: SWEPCO-AECC Foreman Delivery Point Agreement to be effective 2/18/2019.

Filed Date: 3/8/19.

Accession Number: 20190308-5051.

Comments Due: 5 p.m. ET 3/29/19.

Docket Numbers: ER19-1215-000.

Applicants: Cricket Valley Energy Center, LLC.

Description: Baseline eTariff Filing: Application Market-Based Rate Authorization and Request for Waivers to be effective 5/8/2019.

Filed Date: 3/8/19.

Accession Number: 20190308-5079.

Comments Due: 5 p.m. ET 3/29/19.

Docket Numbers: ER19-1216-000.

Applicants: Northwest Ohio Wind, LLC.

Description: Baseline eTariff Filing: Reactive Service Revenue Requirement to be effective 5/8/2019.

Filed Date: 3/8/19.

Accession Number: 20190308-5095.

Comments Due: 5 p.m. ET 3/29/19.

Docket Numbers: ER19-1217-000.

Applicants: Montana-Dakota Utilities Co.

Description: Compliance filing: Baseline Tariff Refiling and Request for Administrative Cancellation to be effective 1/18/2019.

Filed Date: 3/8/19.

Accession Number: 20190308-5099.

Comments Due: 5 p.m. ET 3/29/19.

Docket Numbers: ER19-1219-000.

Applicants: Midcontinent Independent System Operator, Inc.

Description: § 205(d) Rate Filing: 2019-03-08_SA 6510_MISO-Cleco 2nd Renewal SSR Agreement for Teche Unit No. 3 to be effective 4/1/2019.

Filed Date: 3/8/19.

Accession Number: 20190308-5167.

Comments Due: 5 p.m. ET 3/29/19.

Docket Numbers: ER19-1220-000.

Applicants: PacifiCorp.

Description: Tariff Cancellation: Term of BPA Hermiston Interchange Move Agmt to be effective 5/20/2019.

Filed Date: 3/8/19.

Accession Number: 20190308-5170.

Comments Due: 5 p.m. ET 3/29/19.

Docket Numbers: ER19-1221-000.

Applicants: Midcontinent Independent System Operator, Inc.

Description: § 205(d) Rate Filing: 2019-03-08_SA 3258 Big Rivers Electric Corp.—OSER LLC GIA (J753) to be effective 2/22/2019.

Filed Date: 3/8/19.

Accession Number: 20190308-5176.

Comments Due: 5 p.m. ET 3/29/19.

Docket Numbers: ER19-1222-000.

Applicants: Montana-Dakota Utilities Co.

Description: Compliance filing: Refilling Tariff Records to be effective 1/18/2019.

Filed Date: 3/8/19.

Accession Number: 20190308-5179.

Comments Due: 5 p.m. ET 3/29/19.

Docket Numbers: ER19-1223-000.

Applicants: Midcontinent Independent System Operator, Inc., AEP Indiana Michigan Transmission Company.

Description: § 205(d) Rate Filing: 2019-03-08_Rate Schedule 53_Duke IMTCo Interim Revenue Distribution Agreement to be effective 3/9/2019.

Filed Date: 3/8/19.

Accession Number: 20190308-5182.

Comments Due: 5 p.m. ET 3/29/19.

Docket Numbers: ER19-1224-000.

Applicants: Midcontinent Independent System Operator, Inc., AEP Indiana Michigan Transmission Company.

Description: § 205(d) Rate Filing: 2019-03-08_Revisions to Schedules 7, 8, and 9 to add AEP Indiana Michigan to be effective 6/1/2019.

Filed Date: 3/8/19.

Accession Number: 20190308-5187.

Comments Due: 5 p.m. ET 3/29/19.

Docket Numbers: ER19-1225-000.

Applicants: Midcontinent Independent System Operator, Inc.

Description: § 205(d) Rate Filing: 2019-03-08_SA 3259 Big Rivers Electric Corp.—OSER LLC GIA (J762) to be effective 2/22/2019.

Filed Date: 3/8/19.

Accession Number: 20190308-5192.

Comments Due: 5 p.m. ET 3/29/19.

Docket Numbers: ER19-1226-000.

Applicants: Southern California Edison Company.

Description: § 205(d) Rate Filing: SCE?s Revision to Formula Rate Tariff Authorized PBOPs Expense Amount to be effective 1/1/2019.

Filed Date: 3/8/19.

Accession Number: 20190308-5194.

Comments Due: 5 p.m. ET 3/29/19.

Docket Numbers: ER19-1227-000.

Applicants: Monongahela Power Company, PJM Interconnection, L.L.C.

Description: § 205(d) Rate Filing: Mon Power submits Interconnection Agreement No. 5267 (IA) to be effective 4/30/2019.

Filed Date: 3/8/19.

Accession Number: 20190308-5196.

Comments Due: 5 p.m. ET 3/29/19.

Docket Numbers: ER19-1228-000.

Applicants: PJM Interconnection, L.L.C.

Description: § 205(d) Rate Filing: Original WMPA SA No. 5313; Queue No. AC2-101 to be effective 2/7/2019.

Filed Date: 3/8/19.

Accession Number: 20190308-5195.

Comments Due: 5 p.m. ET 3/29/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 8, 2019.
Nathaniel J. Davis, Sr.,
Deputy Secretary.

[FR Doc. 2019-04844 Filed 3-14-19; 8:45 am]

BILLING CODE 6717-01-P